DEPARTMENT OF STATE

[Public Notice 6161]

Notice of Intent To Prepare an Environmental Impact Statement and Notice of Floodplain and Wetland Involvement; Enbridge Energy, Limited Partnership (“Alberta Clipper Project”)

AGENCY: Department of State.

ACTION: Notice of Intent to Prepare an Environmental Impact Statement and Notice of Floodplain and Wetland Involvement; Enbridge Energy, Limited Partnership (“Alberta Clipper Project”).

Enbridge Energy, Limited Partnership (“EELP”) has applied to the Department of State for a Presidential Permit, pursuant to Executive Order 13337 of April 30, 2004, to construct, connect, operate, and maintain a 36-inch diameter crude oil and liquid hydrocarbon pipeline at the U.S.-Canadian border near Neche, Pembina County, North Dakota, for the purpose of transporting liquid hydrocarbons and other petroleum products between the United States and Canada. EELP seeks this authorization in connection with its Alberta Clipper Pipeline Project (“Alberta Clipper Project”), which is designed to transport Canadian crude oil from the Western Canadian Sedimentary Basin (“WCSB”) to existing refinery markets in the Midwest region of the United States.

On July 27, 2007, the Department of State published notice of intent to prepare an environmental assessment and to conduct scoping hearings for the Alberta Clipper Project (72 FR 41381). Based on public comments received during twelve public hearings conducted along the proposed pipeline route in August 2007, comments received by the Department during the 45-day public comment period, and on consultations with other federal agencies, the Department of State has concluded that the issuance of the Presidential Permit to EELP for the Alberta Clipper Project would constitute a major federal action that may have a significant impact upon the environment within the meaning of the National Environmental Policy Act (NEPA). For this reason, the Department of State intends to prepare an environmental impact statement (EIS) to address reasonably foreseeable impacts from the proposed action and alternatives to the proposed action. The Department will comply with section 106 of the Historic Preservation Act and section 7 of the Endangered Species Act.

The U.S. Army Corps of Engineers (Corps) is a cooperating agency in the preparation of the EIS by the Department. The Corps is also independently reviewing the Albert Clipper proposal in connection with its own decision on EELP's application for a Department of the Army section 404 Clean Water Act and section 10 Rivers and Harbors Act permit. Any questions or concerns regarding the aquatic environment along the proposed pipeline route can be forwarded to: U.S. Army Corps of Engineers, St. Paul District, CE MVP-OP-R, Attn: Leo Grabowski, Brainerd Field Office, 10867 East Gull Lake Drive NW., Brainerd, MN 56401-9051.

The purpose of this Notice of Intent is to inform the public about the proposed action. As the proposed project may involve an action in a floodplain or wetland, the EIS will include a floodplain and wetlands assessment and floodplain statement of findings.

FOR FURTHER INFORMATION CONTACT: For information on the proposed project or to receive a copy of the Draft Alberta Clipper EIS when it is issued, contact Elizabeth Orlando at OES/ENV Room 2657, U.S. Department of State, Washington, DC 20520, or by telephone (202) 647-4284, or by fax at (202) 647-5947, or by e-mail at: albertaclipper@state.gov. More information on the EELP Alberta Clipper Project, including associated maps and drawings, is available in its entirety from an Enbridge-hosted project Web site: http://www.enbridgeUS.com/publicinfo. This Web site will NOT accept public comments for the record. All public documents related to EELP's permit application, including EELP's permit application and the draft EIS when produced, can be viewed and downloaded at: http://albertaclipper.state.gov.

SUPPLEMENTARY INFORMATION: In the U.S., the Alberta Clipper Project would consist of approximately 326 miles of new 36-inch-diameter pipeline from the United States-Canada border near Neche, North Dakota to the existing EELP tank farm in Superior, Wisconsin. EELP proposes to construct the pipeline generally along its existing pipeline right-of-way. EELP proposes to begin construction of the project in November 2008. Construction would occur over approximately 14 months, with an in-service date on or before December 31, 2009. U.S. counties that could possibly be affected by construction of the proposed pipeline are:

North Dakota: Pembina.

Minnesota: Kittson, Marshall, Pennington, Red Lake, Polk, Clearwater, Beltrami, Hubbard, Cass, Itasca, Aitkin, St. Louis, Carlton.

Wisconsin: Douglas.

Construction of the proposed pipeline would generally require a 140-foot-wide construction right-of-way to allow temporary storage of topsoil and spoil and to accommodate safe operation of construction equipment. EELP would retain a portion of the construction right-of-way in order to maintain a 75-feet right-of-way from the current outermost pipeline.

Issued in Washington, DC on March 25, 2008.
Stephen J. Gallogly,
Director, International Energy and Commodity Policy, Department of State.

[FR Doc. E8-6565 Filed 3-28-08; 8:45 am]

BILLING CODE 4710-07-P